DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Application Forms for Membership on a National Marine Sanctuary Advisory Council.

OMB Control Number: 0648-0397.

Form Number(s): NA.

Type of Request: Regular (revision and extension of a currently approved information collection).

Number of Respondents: 520.

Average Hours per Response: 1 hour.

Burden Hours: 520.

Needs and Uses: This request is for a revision and extension Section 315 of the National Marine Sanctuaries Act (16 U.S.C. 1445a) allows the Secretary of Commerce to establish one or more advisory councils to provide advice to the Secretary regarding the designation and management of national marine sanctuaries. Advisory councils are individually chartered for each sanctuary to meet the needs of that sanctuary. Once an advisory council has been chartered, the sanctuary superintendent starts a process to recruit members for that council by providing notice to the public and requesting interested parties to apply for the available seat(s) (e.g., Research, Education) and position(s) (i.e., council member or alternate). The information obtained through this application process will be used to determine the qualifications of the applicant for membership on the sanctuary advisory council.

Two application forms are currently associated with this information collection: (a) National Marine Sanctuary Advisory Council Application form; and (b) National Marine Sanctuary Advisory Council Youth Seat Application form. These application forms are currently being revised to ensure consistency between forms, as well as clarify the information and supplemental materials to be submitted by applicants. Application form instructions will specify requirements imposed upon the agency when reviewing applicants as potential council members or alternates, including the need to assess potential conflicts of interest (or other issues) and the applicant's status as a federally registered lobbyist. Specific questions posed to applicants will be reordered, reworded and, at times, condensed to improve the organization of applicant responses and, thereby, simplify the applicant review process.

Affected Public: Individuals or households; not-for-profit institutions; business or other for-profit organizations; Federal government.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 19, 2015.
Sarah Brabson,
NOAA PRA Clearance Officer.

[FR Doc. 2015-12565 Filed 5-21-15; 8:45 am]

BILLING CODE 3510-NK-P